DEPARTMENT OF HEALTH AND HUMAN SERVICES

National Institutes of Health

Submission for OMB Review; 30-Day Comment Request; Generic Clearance To Conduct Formative Research (NIAID)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30 days of the date of this publication.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: Dione Washington, Health Science Policy Analyst, Strategic Planning and Evaluation Branch, 5601 Fishers Lane, Room 5F32, Rockville, Maryland 20892, call 240-699-2100, or Email your request, including your address to: washingtondi@niaid.nih.gov.

SUPPLEMENTARY INFORMATION: This proposed information collection was previously published in the Federal Register on September 25, 2017, page 44631 (82 FR 44631) and allowed 60 days for public comment. No public comments were received. The purpose of this notice is to allow an additional 30 days for public comment.

The National Institute of Allergy and Infectious Diseases (NIAID), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Generic Clearance to Conduct Formative Research (NIAID), 0925-NEW, National Institute of Allergy and Infectious Diseases (NIAID), National Institutes of Health (NIH).

Need and Use of Information Collection: The purpose of this Generic is for information collections to improve research approaches and final product development to identify emergent infectious disease threats and comorbidities related to the needs of diverse audiences. The information to be collected as part of this generic clearance will allow the agency to make appropriate adjustments in content and methods used in developmental and testing stages in order to improve research approaches and final product development.

OMB approval is requested for 3 years. There are no costs to respondents other than their time. The total estimated annualized burden hours are 34575.

Estimated Annualized Burden Hours
Research method | Number of respondents | Number of responses per respondent | Average burden per response (in hours) | Total annual burden in hours
Focus Group Screeners | 2,000 | 1 | 15/60 | 500
Interview Screeners/Surveys | 2,000 | 1 | 15/60 | 500
Focus Groups | 4,000 | 1 | 2 | 8,000
Pretesting | 1,000 | 1 | 1 | 1,000
Dyad/Triad Interviews | 4,000 | 1 | 90/60 | 6,000
In-depth Interviews (IDI) | 6,000 | 1 | 90/60 | 9,000
Surveys | 7,000 | 1 | 30/60 | 3,500
Patient questionnaires | 4,500 | 1 | 30/60 | 2,250
Market research | 300 | 1 | 4 | 1,200
Peer review with adult scientific professionals—mail/telephone/email surveys | 4,500 | 1 | 30/60 | 2,250
Peer review with adult scientific professionals—focus groups | 250 | 1 | 90/60 | 375
Total | 35,550 | 35,550 |  | 34,575

Dated: November 30, 2017.
Dione Washington,
Project Clearance Liaison, NIAID, NIH.

[FR Doc. 2017-26538 Filed 12-8-17; 8:45 am]

BILLING CODE 4140-01-P